DEPARTMENT OF ENERGY

Federal Energy Regulatory Commission

[Project No. 2232-522]

Duke Power Company, LLC; North Carolina and South Carolina; Notice of Public Meetings for the Catawba-Wateree Hydroelectric Project Draft Environmental Impact Statement

March 20, 2009.

In accordance with the National Environmental Policy Act of 1969 and the Federal Energy Regulatory Commission's (Commission) regulations, 18 CFR Part 380 (Order No. 486, 52 FR 47897), the Office of Energy Projects has reviewed the application for license for the Catawba-Wateree Hydroelectric Project (FERC No. 2232), located on the Catawba River in the counties of Burke, McDowell, Caldwell, Catawba, Alexander, Iredell, Mecklenburg, Lincoln, and Gaston in North Carolina, and the counties of York, Lancaster, Chester, Fairfield, and Kershaw in South Carolina, and has prepared a Draft Environmental Impact Statement (draft EIS) for the project.

In addition to, or in lieu of, sending written comments, all interested individuals, organizations, and agencies are invited to attend one or more of the meetings. The agency meeting will focus on resource agency and non-governmental organization (NGO) concerns, while the evening meetings are primarily for public input. The time and location of the meetings are as follows:

Evening Meeting

Date: Tuesday, April 21, 2009.

Time: 7 p.m.-9 p.m. (EST).

Place: Charles Mack Citizens Center (Town of Mooresville Citizen Center).

Address: 215 North Main St., Mooresville, NC. 704-662-3334.

Daytime Meeting

Date: Wednesday, April 22, 2009.

Time: 9 a.m.-4 p.m. (EST).

Place: Baxter Hood Center (York Technical College).

Address: 452 S. Anderson Rd., Rock Hill, SC. 803-981-7100.

Evening Meeting

Date: Wednesday, April 22, 2009.

Time: 7 p.m.-9 p.m. (EST).

Place: Baxter Hood Center (York Technical College).

Address: 452 S. Anderson Rd., Rock Hill, SC. 803-981-7100.

Individuals, organizations, and agencies with environmental expertise and concerns are encouraged to attend the meetings and to discuss their comments on staff's recommendations included in the draft EIS. At these meetings, resource agency personnel and other interested persons will have the opportunity to provide oral and written comments and recommendations regarding the draft EIS. The meeting will be recorded by a court reporter, and all statements (verbal and written) will become part of the Commission's public record for the project. This meeting is posted on the Commission's calendar located at http://www.ferc.gov/EventCalendar/EventsList.aspx along with other related information.

Written comments should be filed with: Kimberly D. Bose, Secretary, Federal Energy Regulatory Commission, 888 First Street, NE., Washington, DC, 20426. All comments must be filed by May 8, 2009, and should reference Project No. 2232-522. Comments may be filed electronically via the Internet in lieu of paper. The Commission strongly encourages electronic filings. See 18 CFR 385.2001(a)(1)(iii) and instructions on the Commission's Web site at http://www.ferc.gov under the eLibrary link.

Copies of the draft EIS were distributed to the parties on the Commission's mailing list. Electronic copies of the draft EIS on CD will be available at the meetings. The draft EIS contains staff's evaluation of the applicant's proposal and the alternatives for relicensing the Catawba-Wateree Project. A copy of the draft EIS is also available for review in the Commission's Public Reference Branch, Room 2A, located at 888 First Street, NE., Washington, DC 20426. The draft EIS also may be viewed on the Commission's Web site at http://www.ferc.gov under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Sean Murphy at (202) 502-6145, or at sean.murphy@ferc.gov.

Kimberly D. Bose,
Secretary.

[FR Doc. E9-6867 Filed 3-26-09; 8:45 am]

BILLING CODE